DEPARTMENT OF TRANSPORTATION

Federal Aviation Administration

14 CFR Part 71

[Docket No. FAA-2024-1983; Airspace Docket No. 24-ASO-24]

RIN 2120-AA66

Amendment of Class E Airspace; Edenton, NC

AGENCY: Federal Aviation Administration (FAA), DOT.

ACTION: Final rule; correction.

SUMMARY: The FAA is correcting a final rule that appeared in the Federal Register on March 10, 2025. The final rule amended Class E airspace extending upward from 700 feet above the surface for ECU Health Chowan Hospital Heliport, Edenton, NC, to accommodate new area navigation (RNAV) global positioning system (GPS) standard instrument approach procedures serving the heliport. Additionally, it corrected the Northeastern Regional Airport name along with correcting coordinates for Northeastern Regional Airport. This action corrects that rule by changing the effective date to June 12, 2025.

DATES: Effective 0901 UTC, April 17, 2025. As of April 1, 2025, the effective date of the rule published March 10, 2025, at 90 FR 11587, is corrected from 0901 UTC, April 17, 2025, to 0901 UTC, June 12, 2025.

FOR FURTHER INFORMATION CONTACT: Robert Scott Stuart, Operations Support Group, Eastern Service Center, Federal Aviation Administration, 1701 Columbia Ave., College Park, GA 30337; Telephone (404) 305-5926.

SUPPLEMENTARY INFORMATION: In the final rule published March 10, 2025, (90 FR 11588) for Doc. No. FAA-2024-1983, the published effective date was incorrect. Accordingly, the effective date for the amended Class E airspace extending upward from 700 feet above the surface for ECU Health Chowan Hospital Heliport, Edenton, NC, to accommodate new area navigation (RNAV) global positioning system (GPS) standard instrument approach procedures serving the heliport, and the corrected name and coordinates for Northeastern Regional Airport, is corrected to June 12, 2025.

Correction to the Final Rule

In the Federal Register of Monday, March 10, 2025, in FR Doc. 2025-03656, on page 11588, in the first column, correct the DATES caption to read:

DATES: Effective 0901 UTC, June 12, 2025. The Director of the Federal Register approves this incorporation by reference action under 1 CFR part 51, subject to the annual revision of FAA Order JO 7400.11 and publication of conforming amendments.

Issued in College Park, Georgia, on March 18, 2025.
Patrick Young,
Manager, Airspace & Procedures Team North, Eastern Service Center, Air Traffic Organization.

[FR Doc. 2025-04961 Filed 3-31-25; 8:45 am]

BILLING CODE 4910-13-P